DEPARTMENT OF HOUSING AND URBAN DEVELOPMENT

[Docket No. FR-4914-N-03]

Mortgagee Review Board Administrative Actions

AGENCY: Office of the Assistant Secretary for Housing-Federal Housing Commissioner, HUD.

ACTION: Notice.

SUMMARY: In compliance with section 202(c) of the National Housing Act, notice advises of the cause and description of certain administrative actions taken by HUD's Mortgagee Review Board against HUD-approved mortgagees. This notice of administrative actions relates solely to the failure of Title I lenders and Title II mortgagees to submit the required audited annual financial statement, an acceptable annual audited financial statement and/or payment of the annual recertification fee.

FOR FURTHER INFORMATION CONTACT: Phillip A. Murray, Director, Office of Lender Activities and Program Compliance, Room B-133-3214 L'Enfant Plaza, 451 Seventh Street, SW., Washington, DC 20410-8000, telephone: (202) 708-1515. (This is not a toll-free number.) A Telecommunications Device for Hearing- and Speech-Impaired Individuals (TTY) is available at 1-800-877-8339 (Federal Information Relay Service).

SUPPLEMENTARY INFORMATION: Section 202(c)(5) of the National Housing Act (added by section 142 of the Department of Housing and Urban Development Reform Act of 1989, Pub. L. 101-235, approved December 15, 1989), requires that HUD publish a description of and the cause for administrative actions against a HUD-approved mortgagee by the Department's Mortgagee Review Board. In compliance with the requirements of section 202(c)(5), this notice advises of administrative actions that have been taken by the Mortgagee Review Board from October 1, 2003 through March 31, 2004, related to the failure of Title I lenders and Title II mortgagees to submit the required audited annual financial statement, an acceptable annual audited financial statement and/or payment of the annual recertification fee.

Action: Withdrawal of HUD/FHA Title I lender approval and Title II mortgagee approval.

Cause: Failure to submit to the Department the required annual audited financial statement, an acceptable annual audited financial statement, and/or remit the required annual recertification fee.

33 Title I Lenders and Loan Correspondents
[Terminated between October 1, 2003 and March 31, 2004]
Name | City | State
ABC MORTGAGE INC | SACRAMENTO | CA
BAYPORTE ENTERPRISES INC | FOSTER CITY | CA
CALIFORNIA DISCOUNT MORTGAGE | COVINA | CA
CALIFORNIA GOLD MORTGAGE INC | ENCINO | CA
CELTIC BANK | SALT LAKE CITY | UT
CHANNEL POINT CORPORATION | CARSON | CA
COUNTYWIDE LENDERS CORP | ONTARIO | CA
CROWN BANK FSB | CASSELBERRY | FL
CSBM INC | PASADENA | CA
DIADCO FINANCIAL SERVICES INC | COVINA | CA
ENTERPRISE FEDERAL SAVINGS BANK | LARGO | MD
EZ HOME FUNDING INC | SOUTH GATE | CA
FIDELITY FEDERAL SAVINGS BANK | CHICAGO | IL
FIRST NATIONAL BANK | BANGOR | WI
FIRST PREFERRED MORTGAGE CORP | DOWNEY | CA
INTEGRITY MORTGAGE CORPORATION | DOWNEY | CA
LANDMARK NATIONAL BANK | DODGE CITY | KS
LIBERTY FINANCIAL GROUP | BELLEVUE | WA
LIBERTY MORTGAGE CORPORATION | ERIE | PA
LINDA JENSEN ENTERPRISES | MISSION VIEJO | CA
LOANMAX BANCORP | ARTESIA | CA
M W FINANCIAL INC | TORRANCE | CA
MAJESTY MORTGAGE CORP | LOS ANGELES | CA
MOJAVE VALLEY MORTGAGE CORP | VICTORVILLE | CA
NAPOLI MORTGAGE AND INVESTMENT | MIAMI | FL
NDNJ INC | RANCHO PALOS VERDES | CA
PROFESSIONAL ADVANTAGE FINANCIAL GROUP I | BOSTON | MA
PROFUNDING INC | NORTH HOLLYWOOD | CA
RICARDO GERSCOVICH INC | VAN NUYS | CA
SECOND CITY FINANCIAL INC | DENVER | CO
THIRTY TWO ROJO INC | PALM DESERT | CA
TRICOR FUNDING INC | ONTARIO | CA
WAUSAU MORTGAGE CORPORATION | PLEASANTON | CA

179 Title II Mortgagees and Loan Correspondents
[Terminated between October 1, 2003 and March 31, 2004]
Name | City | State
ABC MORTGAGE INC | SACRAMENTO | CA
ADVANTAGE ONE MORTGAGE CORP | BENSALEM | PA
ALCON ACTION AGENCY INC MORTGAGES | CONWAY | SC
ALLIED LENDING CORPORATION | LAKE FOREST | CA
ALPINE MORTGAGE OF OREGON INC | SPRINGFIELD | OR
ALTERNA MORTGAGE COMPANY | MT OLIVE | NJ
AMERICA WEST LENDER EXPRESS INC | SAN DIEGO | CA
AMERICAN REVERSE MORTGAGE LLC | GLEN BURNIE | MD
AMERITECH MORTGAGE BANKERS INC | LANHAM | MD
AMEX REAL ESTATE SERVICES INC | VISTA | CA
ANTELOPE MORTGAGE INC | NEWBERG | OR
APPLE MORTGAGE BANC AND LENDING | FORT MYERS | FL
APR MORTGAGE | NORTHRIDGE | CA
ASSURANCE LENDING SERVICES LLC | HOUSTON | TX
AXTION INC | COLUMBIA | SC
BANYAN FINANCIAL OF CENTRAL FLORIDA LP | CLERMONT | FL
BELL CAPITAL INC | CHICAGO | IL
BENEFICIAL CAPITAL MANAGEMENT CORP | LAGUNA HILLS | CA
BENEFIT MORTGAGE SERVICES LLC | CLINTON | MD
C W COBB AND ASSOCIATION INC | ARLINGTON | VA
CALIFORNIA EXPRESS FUNDING INC | ONTARIO | CA
CALIFORNIA GOLD MORTGAGE INC | ENCINO | CA
CAMINO REAL FINANCIAL INC | WHITTIER | CA
CANYON MORTGAGE INC | PALM DESERT | CA
CAPITAL MORTGAGE COMPANY | ADDISON | IL
CARRINGTON MORTGAGE SERVICES INC | HUNTINGTON BEACH | CA
CARVER FEDERAL SAVINGS ALA | NEW YORK | NY
CAVERSHAM FINANCIAL INC | ATLANTA | GA
CENTER CITY LENDERS INC | ORLANDO | FL
CENTURY MORTGAGE AND FUNDING INC | LISLE | IL
CHANNEL POINT CORPORATION | CARSON | CA
CHOCTAW HOPE DEVELOPMENT CORP | HUGO | OK
CITIFINANCIAL MORTGAGE COMPANY INC | IRVING | TX
CITYWIDE MORTGAGE PROS | LOCKPORT | IL
CLS FINANCIAL SERVICES INC | LYNNWOOD | WA
COMMUNITY INVESTMENT CORP | CHICAGO | IL
CONNECTICUT HOUSING INV FUND INC | HARTFORD | CT
CONSUMER MORTGAGE GROUP INC | CENTENNIAL | CO
CONTINENTAL COMMUNITY BANK AND TRUST CO | AURORA | IL
CONTINENTAL PACIFIC CAPITAL AND FINANCIAL | TARZANA | CA
COPIAGUE FUNDING CORP | LINDENHURST | NY
COUNTY MORTGAGE COMPANY INC | WEST CALDWELL | NJ
CREATIVE MORTGAGE USA INC | LANSING | IL
CREDIT CLINIC USA INC | BALTIMORE | MD
CROSSROAD CAPITAL SERVICES INC | NEW ROCHELLE | NY
CSBM INC | PASADENA | CA
CUSTOM LENDING GROUP INC | NAPA | CA
CYPRESS POINT FUNDING INC | WOODLAND HILLS | CA
DAN CAVALLO INC | RIVERSIDE | CA
DEAN ENTERPRISES INCORPORATED | LA CANADA | CA
DECORUM FINANCIAL MORTGAGE CORP | NORTH LITTLE ROCK | AR
DELTA MORTGAGE CORPORATION | FORT COLLINS | CO
DEVON INC | LAS VEGAS | NV
DIAMOND MORTGAGE BROKER INC | SANTA ANA | CA
DISCOVER MORTGAGE COMPANY | DECATUR | GA
E THREE R FINANCIAL CORPORATION | KANSAS CITY | MO
EMPIRE LENDING CORPORATION | CITY OF INDUSTRY | CA
ENCORE MORTGAGE SERVICE | VOORHEES | NJ
ENTERPRISE FEDERAL SAVING BANK | LARGO | MD
EZ HOME FUNDING INC | SOUTH GATE | CA
FAI MORTGAGE CORP | FAIRFIELD | NJ
FAIRWAY OF AMERICA INC | EAST LANSING | MI
FIDELITY FEDERAL SAVINGS BANK | CHICAGO | IL
FIRST BANK OF-MISSOURI | GLADSTONE | MO
FIRST CENTENNIAL NATIONWIDE MORTGAGE | CENTENNIAL | CO
FIRST CLASS FINANCIAL LLC | COLORADO SPRINGS | CO
FIRST WESTERN FUNDING CORP | FORT COLLINS | CO
FIVE STAR FINANCIAL INC | JOLIET | IL
FN MORTGAGE CORPORATION | SANTA ANA | CA
FUNDING EXPRESS BANCORP INC | UPLAND | CA
GATEWAY RESIDENTIAL FUNDING | CONCORD | CA
GEORGE WASHINGTON SAVINGS BANK | OAKLAWN | IL
GIBRALTER LOAN SERVICES INC | VISTA | CA
GLENBY MORTGAGE BANKING LTD | JERICHO | NY
GRAND MORTGAGE INC | GAINESVILLE | GA
GRANITE HOME MORTGAGE CORPORATION | DIAMOND BAR | CA
GUARANTY LOAN AND REAL ESTATE | WEST MEMPHIS | AR
HANNON MORTGAGE INC | TUCSON | AZ
HBA CAPITAL GROUP INC | HALLANDALE | FL
HOME LOAN GROUP INC | PLEASANTON | CA
HOMEBANK | ROCKWALL | TX
HOMEBUYERS FINANCIAL SERVICES LP | BRENTWOOD | TN
HOMESOURCE CAPITAL MORTGAGE CO LP | JUPITER | FL
HOUSING AME MORTGAGE COMPANY | BOCA RATON | FL
IMPACT LENDING INC | NEW PORT RICHEY | FL
INDEPENDENT MORTGAGE CORP | CLERMONT | FL
INTEGRITY FINANCIAL SERVICES | OAKBROOK | IL
INTEGRITY MORTGAGE CORP | DOWNEY | CA
KEYES PENN MORTGAGE COMPANY | LAWRENCEVILLE | GA
KSJ ENTERPRISES | WASHINGTON | DC
L AND S FINANCIAL SERVICES LLC | WEST JORDAN | UT
LAKE ELMO BANK | OAKDALE | MN
LEGACY LENDING INC | STEILACOOM | WA
LEGACY MORTGAGE COMPANY INC | WATERLOO | IA
LEND LEASE HOUSING FINANCE GROUP LP | DALLAS | TX
LIBERTY MORTGAGE COMPANY | CHICAGO | IL
LIGHTHOUSE MORTGAGE COMPANY LLC | VENICE | FL
LOAN LINES INC | TARZANA | CA
LOANMAX BANCORP | ARTESIA | CA
LUU ASSOCIATES INC | CITY OF INDUSTRY | CA
MAJESTY MORTGAGE CORP | LOS ANGELES | CA
MALVERN FEDERAL SAVINGS BANK | PAOLI | PA
MARCO MORTGAGE INC | OXNARD | CA
MEG MORTGAGE CENTER INC | FORT LAUDERDALE | FL
MERCURY MORTGAGE CO INC | TULSA | OK
METRO ISLAND MORTGAGE INC | RIO PIEDRAS | PR
METRO MORTGAGE CORPORATION | METAIRIE | LA
METROPLEX RESIDENTIAL LENDING LP | PLANO | TX
METWEST MORTGAGE SERVICES INC | SPOKANE | WA
MFB FINANCIAL | MISHAWAKA | IN
MIDWEST MORTGAGE COMPANY | GLENDALE HEIGHTS | IL
MONEY PLUS FINANCIAL INC | RANCHO CUCAMONGA | CA
MONEYTREE MORTGAGE COMPANY | AURORA | IL
MORTGAGE ACCESS GROUP INCORP | PINOLE | CA
MORTGAGE AMERICA INC-NJ | MANALAPAN | NJ
MORTGAGE BANKING ASSIST INC | BEDFORD | TX
MORTGAGE COMPANY MICHIGAN INC | ROCHESTER HILLS | MI
MORTGAGE CREDIT SERVICES INC | ORANGE | CA
MORTGAGE FINDERS | DES PLAINES | IL
MORTGAGE MARKET INC | TIGARD | OR
MORTGAGE SOLUTIONS INC | MARIETTA | GA
NAPOLI MTG AND INVESTMENT CORP | MIAMI | FL
NDNJ INC | RANCHO PALOS VERDES | CA
NEEDAMORTGAGE COM INC | SEATTLE | WA
NEIGHBORHOOD MORTGAGE INC | PHOENIX | AZ
NEW FINANCE INC | MIAMI | FL
PACIFIC COAST MORTGAGE INC | CHINO | CA
PACIFIC LIFE INSURANCE COMPANY | NEWPORT BEACH | CA
PALMA CORPORATION | LAS VEGAS | NV
PARAGON MORTGAGE BANKERS CORP | CARLE PLACE | NY
PELICAN FINANCIAL SERVICES INC | BATON ROUGE | LA
PINE VALLEY MORTGAGE CORPORATION | DULUTH | GA
PRIMARY MORTGAGE GROUP INC | MISSION VIEJO | CA
PRIME STAR MORTGAGE COMPANY INC | STOCKBRIDGE | GA
PROFESSIONAL ADVANTAGE FINANCIAL GROUP | BOSTON | MA
PROFESSIONAL MORTGAGE SOLUTIONS | REGO PARK | NY
PROFUNDING INC | NORTH HOLLYWOOD | CA
PROSPERITY CAPITAL INC | ANAHEIM | CA
QUALITY MORTGAGE CONSULTANTS INC | POLLOCK PINES | CA
REAL AMERICAN LENDING INC | WESTMINSTER | CA
REAL ESTATE MORTGAGE COUNSELORS | LEMON GROVE | CA
REAL TIME FUNDING CORP | DOWNEY | CA
RESORT MORTGAGE INC | GULF BREEZE | FL
ROCKPOINTE FINANCIAL SERVICES GROUP INC | IRVINE | CA
ROYAL HAVEN MORTGAGE INC | LOS ANGELES | CA
SAINT ANTHONY BANK FSB | CICERO | IL
SARAS INC | LAGUANA HILLS | CA
SCHWAB FINANCIAL SERVICES INC | OREGON CITY | OR
SEACOAST FINANCIAL INC | SANTA MARIA | CA
SECOND CITY FINANCIAL INC | DENVER | CO
SENIOR HOMEOWNERS FINANCIAL SERVICES | MONTEREY PARK | FL
SERONELLO SUMMERS INC | SAN RAMON | CA
SIGNATURE MORTGAGE INC | ST CHARLES | MO
SMP FINANCIAL CORP | TUSTIN | CA
SOUTHERN MORTGAGE INVESTMENT CORP | MARIETTA | GA
SOUTHLAND MORTGAGE CORP OF NC | CHARLOTTE | NC
SOVEREIGN MORTGAGE LP | DENVER | CO
ST CLOUD MORTGAGE | SANTA CLEMENTE | CA
ST FRANCIS BANK FSB | NEW BERLIN | WI
SUNSET MORTGAGE AND FUNDING CORP | STATEN ISLAND | NY
SUPERIOR FINANCING INC | ST PAUL | MN
TDC MORTGAGE CORP | LAS VEGAS | NV
THRESHOLD FINANCIAL CORPORATION | WESTPORT | CT
TOWNE BANK | CINCINNATI | OH
TREANOR ENTERPRISES | DALLAS | TX
TRIMARK CAPITAL INC | PHOENIX | AZ
TROY SAVINGS BANK | TROY | NY
TURNER-YOUNG INVESTMENT CO | FORT WORTH | TX
TWENTY FIRST CAPITAL FUNDING INC | LOS ANGELES | CA
UNITED STATES NATIONAL BANK | RED LODGE | MT
USA FINANCIAL SERVICES INC | FAIRFAX | VA
VETERANS BENEFITS CLEARINGHOUSE | ROXBURY | MA
W D WICKLEY INC | RANCHO CUCAMONGA | CA
WANTLAND REALTY CORPORATION | NORTH PALM BEACH | FL
WAUKEGAN SAVINGS AND LOAN SB | WAUKEGAN | IL
WCFRE INC | CARLSBAD | CA
WESTERN UNITED LIFE ASSURANCE | SPOKANE | WA
WETCO FINANCIAL INC | BATON ROUGE | LA
WORTHINGTON FINANCIAL SERVICES | LP NAPLES | FL

Dated: July 16, 2004.
Sean Cassidy,
General Deputy Assistant Secretary for Housing.

[FR Doc. 04-17515 Filed 7-30-04; 8:45 am]

BILLING CODE 4210-27-P